DEPARTMENT OF COMMERCE

International Trade Administration

Antidumping or Countervailing Duty Order, Finding, or Suspended Investigation; Opportunity To Request Administrative Review

AGENCY: Import Administration, International Trade Administration, Department of Commerce.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

Background

Each year during the anniversary month of the publication of an antidumping or countervailing duty order, finding, or suspension of investigation, an interested party, as defined in section 771(9) of the Tariff Act of 1930, as amended (“the Act”), may request, in accordance with section 351.213 of the Department of Commerce (“the Department”) regulations, that the Department conduct an administrative review of that antidumping or countervailing duty order, finding, or suspended investigation.

Respondent Selection

In the event the Department limits the number of respondents for individual examination for administrative reviews initiated pursuant to requests made for the orders identified below, the Department intends to select respondents based on U.S. Customs and Border Protection (“CBP”) data for U.S. imports during the period of review (“POR”). We intend to release the CBP data under Administrative Protective Order (“APO”) to all parties having an APO within five days of publication of the initiation Federal Register notice. Therefore, we encourage all parties interested in commenting on respondent selection to submit their APO applications on the date of publication of the initiation notice, or as soon thereafter as possible. The Department invites comments regarding the CBP data and respondent selection within 10 calendar days of publication of the initiation Federal Register notice.

Opportunity to Request a Review: Not later than the last day of August 2010,¹ interested parties may request administrative review of the following orders, findings, or suspended investigations, with anniversary dates in August for the following periods:

¹ Or the next business day, if the deadline falls on a weekend, federal holiday or any other day when the Department is closed.

| Period of review
Antidumping Duty Proceedings
Germany:
Corrosion-Resistant Carbon Steel Flat Products, A-428-815 | 8/1/09-7/31/10
Seamless Standard, Line and Pressure Pipe, A-428-820 | 8/1/09-7/31/10
Sodium Nitrite, A-428-841 | 8/1/09-7/31/10
Italy: Granular Polytetrafluoroethylene Resin, A-475-703 | 8/1/09-7/31/10
Japan: Brass Sheet & Strip, A-588-704 | 8/1/09-7/31/10
Granular Polytetrafluoroethylene Resin A-588-707 | 8/1/09-7/31/10
Tin Mill Products, A-588-854 | 8/1/09-7/31/10
Malaysia: Polyethylene Retail Carrier Bags, A-557-813 | 8/1/09-7/31/10
Mexico: Light-Walled Rectangular Pipe and Tube, A-201-836 | 8/1/09-7/31/10
Romania: Carbon and Alloy Seamless Standard, Line, and Pressure Pipe (Under 4½ Inches), A-485-805 | 8/1/09-7/31/10
South Korea: Corrosion-Resistant Carbon Steel Flat Products, A-580-816 | 8/1/09-7/31/10
Light-Walled Rectangular Pipe and Tube, A-580-859 | 8/1/09-7/31/10
Thailand: Polyethylene Retail Carrier Bags, A-549-821 | 8/1/09-7/31/10
The People's Republic Of China:
Certain Tow-Behind Lawn Groomers and Certain Parts Thereof, A-570-939 | 1/28/09-7/31/10
Floor Standing Metal-Top Ironing Tables and Parts Thereof, A-570-888 | 8/1/09-7/31/10
Laminated Woven Sacks, A-570-916 | 8/1/09-7/31/10
Light-Walled Rectangular Pipe and Tube, A-570-914 | 8/1/09-7/31/10
Petroleum Wax Candles, A-570-504 | 8/1/09-7/31/10
Polyethylene Retail Carrier Bags, A-570-886 | 8/1/09-7/31/10
Sodium Nitrite, A-570-925 | 8/1/09-7/31/10
Steel Nails, A-570-909 | 8/1/09-7/31/10
Sulfanilic Acid, A-570-815 | 8/1/09-7/31/10
Tetrahydrofurfuryl Alcohol, A-570-887 | 8/1/09-7/31/10
Vietnam: Frozen Fish Fillets, A-552-801 | 8/1/09-7/31/10
Countervailing Duty Proceedings
South Korea:
Corrosion-Resistant Carbon Steel Flat Products, C-580-818 | 1/1/09-12/31/09
Stainless Steel Sheet and Strip in Coils, C-580-835 | 1/1/09-12/31/09
The People's Republic Of China:
Certain Tow-Behind Lawn Groomers and Certain Parts Thereof, C-570-940 | 11/24/08-12/31/09
Laminated Woven Sacks, C-570-917 | 1/1/09-12/31/09
Light-Walled Rectangular Pipe and Tube, C-570-915 | 1/1/09-12/31/09
Sodium Nitrite, C-570-926 | 1/1/09-12/31/09

Suspension Agreements

None.

In accordance with section 351.213(b) of the regulations, an interested party as defined by section 771(9) of the Act may request in writing that the Secretary conduct an administrative review. For both antidumping and countervailing duty reviews, the interested party must specify the individual producers or exporters covered by an antidumping finding or an antidumping or countervailing duty order or suspension agreement for which it is requesting a review. In addition, a domestic interested party or an interested party described in section 771(9)(B) of the Act must state why it desires the Secretary to review those particular producers or exporters.² If the interested party intends for the Secretary to review sales of merchandise by an exporter (or a producer if that producer also exports merchandise from other suppliers) which were produced in more than one country of origin and each country of origin is subject to a separate order, then the interested party must state specifically, on an order-by-order basis, which exporter(s) the request is intended to cover.

² If the review request involves a non-market economy and the parties subject to the review request do not qualify for separate rates, all other exporters of subject merchandise from the non-market economy country who do not have a separate rate will be covered by the review as part of the single entity of which the named firms are a part.

Please note that, for any party the Department was unable to locate in prior segments, the Department will not accept a request for an administrative review of that party absent new information as to the party's location. Moreover, if the interested party who files a request for review is unable to locate the producer or exporter for which it requested the review, the interested party must provide an explanation of the attempts it made to locate the producer or exporter at the same time it files its request for review, in order for the Secretary to determine if the interested party's attempts were reasonable, pursuant to section 351.303(f)(3)(ii) of the Department's regulations.

As explained in Antidumping and Countervailing Duty Proceedings: Assessment of Antidumping Duties, 68 FR 23954 (May 6, 2003), the Department has clarified its practice with respect to the collection of final antidumping duties on imports of merchandise where intermediate firms are involved. The public should be aware of this clarification in determining whether to request an administrative review of merchandise subject to antidumping findings and orders. See also the Import Administration Web site at http://ia.ita.doc.gov.

Six copies of the request should be submitted to the Assistant Secretary for Import Administration, International Trade Administration, Room 1870, U.S. Department of Commerce, 14th Street and Constitution Avenue, NW., Washington, DC 20230. The Department also asks parties to serve a copy of their requests to the Office of Antidumping/Countervailing Operations, Attention: Sheila Forbes, in room 3065 of the main Commerce Building. Further, in accordance with section 351.303(f)(l)(i) of the Department's regulations, a copy of each request must be served on every party on the Department's service list.

The Department will publish in the Federal Register a notice of “Initiation of Administrative Review of Antidumping or Countervailing Duty Order, Finding, or Suspended Investigation” for requests received by the last day of August 2010. If the Department does not receive, by the last day of August 2010, a request for review of entries covered by an order, finding, or suspended investigation listed in this notice and for the period identified above, the Department will instruct CBP to assess antidumping or countervailing duties on those entries at a rate equal to the cash deposit of (or bond for) estimated antidumping or countervailing duties required on those entries at the time of entry, or withdrawal from warehouse, for consumption and to continue to collect the cash deposit previously ordered.

For the first administrative review of any order, there will be no assessment of antidumping or countervailing duties on entries of subject merchandise entered, or withdrawn from warehouse, for consumption during the relevant provisional-measures “gap” period, of the order, if such a gap period is applicable for the POR.

This notice is not required by statute but is published as a service to the international trading community.

Dated: July 27, 2010.
Edward C. Yang,
Acting Deputy Assistant Secretary for Antidumping and Countervailing Duty Operations.

[FR Doc. 2010-18936 Filed 7-30-10; 8:45 am]

BILLING CODE 3510-DS-P